DEPARTMENT OF ENERGY

Federal Energy Regulatory Commission

[Docket Nos. ER02-2001-000 and RM01-8-000]

Electric Quarterly Reports, Revised Public Utility Filing Requirements; Notice of Extension of Time

April 9, 2003.

On March 28, 2003, the Commission issued Order 2001-D, requiring public utilities to review their fourth quarter 2002 Electric Quarterly Report submissions to ensure that the data filed was correct. FERC staff had discovered several problems which affected data quality for many filers. If any errors were found in the review, utilities were directed to refile corrected data within fourteen days of the date of the order. The due date is April 11, 2003.

FERC staff is holding an EQR Workshop on April 11, 2003. Several filers expressed concern that they would not be able to participate in the EQR Workshop and make the necessary data corrections in a timely manner. In order to encourage participation in the EQR Workshop, we will extend the deadline for filing the corrected data required by Order 2001-D.

Notice is hereby given that the time to file corrections to the fourth quarter 2002 Electric Quarterly Report as required by Order 2001-D is extended to and including April 18, 2003.

Magalie R. Salas,
Secretary.

[FR Doc. 03-9237 Filed 4-15-03; 8:45 am]

BILLING CODE 6717-01-P